CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed renewal of the Presidential Freedom Scholarship application. These applications are used by high school students and a school representative to be considered for a scholarship.

Copies of the information collection requests can be obtained by contacting the office listed in the address section of this notice.

DATES: Written comments must be submitted to the individual and office listed in the ADDRESSES section by March 23, 2007.

ADDRESSES: You may submit comments, identified by the title of the information collection activity, by any of the following methods:

(1) By mail sent to: Corporation for National and Community Service, Learn and Serve America; Attention Elson Nash, Associate Director for Project Management, Room 9605, 1201 New York Avenue, NW., Washington, DC 20525.

(2) By hand delivery or by courier to the Corporation's mailroom at Room 6010 at the mail address given in paragraph (1) above, between 9 a.m. and 4 p.m. Monday through Friday, except Federal holidays.

(3) By fax to: (202) 565-2787, Attention Elson Nash.

FOR FURTHER INFORMATION CONTACT: Elson Nash, (202) 606-6834, or by e-mail at enash@cns.gov.

SUPPLEMENTARY INFORMATION: The Corporation is particularly interested in comments that:

• Evaluate the accuracy of the agency's estimate of the burden of the proposed collection of information, including the validity of the methodology and assumptions used; Enhance the quality, utility, and clarity of the information to be collected; and

• Minimize the burden of the collection of information on those who are expected to respond, including the use of appropriate automated, electronic, mechanical, or other technological collection techniques or other forms of information technology (e.g., permitting electronic submissions of responses).

Background

The Presidential Freedom Scholarship Application is completed by an applicant interested in obtaining a scholarship for community service activities. The application is completed through the Web or it can be downloaded and faxed.

Current Action

The Corporation seeks to renew the current application. The application document will not be altered in any way from the previously-approved application. Information collected on this form will be used for scholarship selection.

Type of Review: Renewal.

Agency: Corporation for National and Community Service.

Title: Presidential Freedom Scholarship application.

OMB Number: 3045-0088.

Agency Number: None.

Affected Public: Prospective scholarship recipients.

Total Respondents: 8000 (4000 students, 4000 counselors).

Frequency: Annually.

Average Time per Response: 20 minutes.

Estimated Total Burden Hours: 2,667 hours.

Total Burden Cost (capital/startup): 0.

Total Burden Cost (operating/maintenance): $350,000.

Comments submitted in response to this notice will be summarized and/or included in the request for Office of Management and Budget approval of the information collection request; they will also become a matter of public record.

Dated: January 12, 2007.
Amy Cohen,
Director, Learn and Serve America.

[FR Doc. E7-739 Filed 1-19-07; 8:45 am]

BILLING CODE 6050-$$-P